DEPARTMENT OF HEALTH AND HUMAN SERVICES

Agency for Toxic Substances and Disease Registry

[Docket No. ATSDR-2024-0001]

Availability of Three Draft Toxicological Profiles

Correction

In notice document 2024-09662, appearing on pages 36820 through 36821 in the issue of Friday, May 3, 2024, make the following correction:

On page 36820, in the first column, in the DATES section, on the second line, “May 3, 2024” should read “August 1, 2024”.

[FR Doc. C1-2024-09662 Filed 5-23-24; 8:45 am]

BILLING CODE 0099-10-D